DEPARTMENT OF EDUCATION

List of Correspondence From July 1, 2015, Through September 30, 2015, and October 1, 2015, Through December 31, 2015

AGENCY: Office of Special Education and Rehabilitative Services, Department of Education.

ACTION: Notice.

SUMMARY: The Secretary is publishing the following list of correspondence from the U.S. Department of Education (Department) received by individuals during the third and fourth quarters of 2015. The correspondence describes the Department's interpretations of the Individuals with Disabilities Education Act (IDEA) or the regulations that implement the IDEA. This list and the letters or other documents described in this list, with personally identifiable information redacted, as appropriate, can be found at: www2.ed.gov/policy/speced/guid/idea/index.html.

FOR FURTHER INFORMATION CONTACT: Jessica Spataro or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro or Mary Louise Dirrigl at (202) 245-7605.

SUPPLEMENTARY INFORMATION: The following list identifies correspondence from the Department issued from July 1, 2015, through September 30, 2015, and October 1, 2015, through December 31, 2015. Under section 607(f) of the IDEA, the Secretary is required to publish this list quarterly in the Federal Register. The list includes those letters that contain interpretations of the requirements of the IDEA and its implementing regulations, as well as letters and other documents that the Department believes will assist the public in understanding the requirements of the law. The list identifies the date and topic of each letter and provides summary information, as appropriate. To protect the privacy interests of the individual or individuals involved, personally identifiable information has been redacted, as appropriate.

Part A—General Provisions

Section 602—Definitions

Topics Addressed: Individualized Education Program; Individualized Family Service Plan

○ Dear Colleague Letter dated July 6, 2015, regarding the role of speech language pathologists and other professionals in determining appropriate services for infants, toddlers, and children with autism spectrum disorder.

Part B—Assistance for Education of All Children With Disabilities

Section 612—State Eligibility

Topic Addressed: Free Appropriate Public Education

○ Dear Colleague Letter dated November 16, 2015, clarifying that individualized education program (IEP) Teams must ensure that annual IEP goals are aligned with the State's academic content standards for the grade in which the child is enrolled.

Topic Addressed: Confidentiality

○ Letter dated November 23, 2015, to Alabama attorney Julie J. Weatherly, regarding requirements that govern the destruction of information collected, maintained, or used under Part B of the IDEA.

Topic Addressed: Children Enrolled in Private Schools by Their Parents

○ Letter dated July 6, 2015, to New York attorney Edward Sarzynski, regarding the requirements in Part B of the IDEA that apply when parents from other countries enroll their children with disabilities in private schools.

○ Letter dated November 23, 2015, to New Jersey attorney Michael I. Inzelbuch, clarifying whether a local educational agency (LEA) may use a portion of the funds it must spend to provide equitable services to children with disabilities placed by their parents in private schools to pay the costs of a settlement agreement.

Topic Addressed: State Educational Agency (SEA) General Supervisory Authority

○ Letter dated July 16, 2015, to Michigan Protection and Advocacy Services, Inc., Director of Public Policy Mark McWilliams, regarding the resolution of State complaints under Part B of the IDEA that allege that a public agency has not implemented a behavioral intervention plan.

○ Letter dated September 18, 2015, to education advocate Marcie Lipsett, clarifying an SEA's responsibility to issue a written decision on a State complaint under Part B of the IDEA even if the SEA accepts an LEA's proposed resolution of the complaint.

Section 613—Local Educational Agency Eligibility

Topic Addressed: Maintenance of Effort

○ Letter dated November 23, 2015, to New Mexico Public Education Department, Director of Special Education Michael Lovato, regarding the exception to the LEA maintenance of effort requirement due to the voluntary or just cause departure of special education or related services personnel.

Section 614—Evaluations, Eligibility Determinations, Individualized Education Programs, and Educational Placements

Topic Addressed: Eligibility Determinations

○ Dear Colleague Letter dated October 23, 2015, regarding evaluations, eligibility determinations, and IEPs for children with dyslexia, dyscalculia, or dysgraphia.

Section 615—Procedural Safeguards

Topic Addressed: Impartial Due Process Hearings

○ Letter dated September 16, 2015, to Illinois attorney Matthew D. Cohen, regarding various issues arising in due process complaints, resolution sessions, and due process hearings, including whether an LEA can unilaterally amend a child's IEP during a resolution meeting on a due process complaint and present that IEP as evidence in a subsequent due process hearing on that complaint.

○ Letter dated December 9, 2015, to Lehigh University Professor of Education and Law Perry A. Zirkel, regarding the statute of limitations for filing a request for a due process hearing.

○ Letter dated December 13, 2015, to California attorney Colleen A. Snyder, regarding the application of the expedited due process hearing procedures.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 13, 2017.
Ruth E. Ryder,
Deputy Director, Office of Special Education Programs, delegated the duties of the Assistant Secretary for Special Education and Rehabilitative Services.

[FR Doc. 2017-07857 Filed 4-18-17; 8:45 am]

BILLING CODE 4000-01-P